NUCLEAR REGULATORY COMMISSION

[Docket Nos. 50-413 and 50-414; NRC-2017-0104]

Duke Energy Carolinas, LLC; Catawba Nuclear Station, Units 1 and 2

AGENCY: Nuclear Regulatory Commission.

ACTION: License amendment application; withdrawal by applicant.

SUMMARY: The U.S. Nuclear Regulatory Commission (NRC) has granted the request of Duke Energy Carolinas, LLC (Duke Energy) to withdraw its application dated December 15, 2016, for proposed amendments to Renewed Facility Operating License Nos. NPF-35 and NPF-52. In that submitted, Duke Energy proposed to adopt multiple Technical Specifications Task Force (TSTF) Travelers that would have modified Technical Specification (TS) 3.4.12, “Low Temperature Overpressure Protection (LTOP) System,” to increase the time allowed for swapping charging pumps to one hour. The portion related to TSTF-285-A, Revision 1, “Charging Pump Swap LTOP Allowance,” is being withdrawn.

DATES: July 27, 2017.

ADDRESSES: Please refer to Docket ID NRC-2017-0104 when contacting the NRC about the availability of information regarding this document. You may obtain publicly-available information related to this document using any of the following methods:

• Federal Rulemaking Web site: Go to http://www.regulations.gov and search for Docket ID NRC-2017-0104. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Michael Mahoney, Office of Nuclear Reactor Regulation, U.S. Nuclear Regulatory Commission, Washington DC 20555-0001; telephone 301-415-3857, email: Michael.Mahoney@nrc.gov.

SUPPLEMENTARY INFORMATION: The NRC has granted the request of Duke Energy Carolinas, LLC (the licensee) to withdraw its application dated December 15, 2016 (ADAMS Accession No. ML16350A422), for proposed amendments to Renewed Facility Operating License No. NPF-35 and NPF-52 for the Catawba Nuclear Station, Unit Nos. 1 and 2, located in York County, South Carolina.

The submittal dated December 15, 2016, proposed to adopt multiple Technical Specifications Task Force (TSTF) Travelers that would have modified Technical Specification (TS) 3.4.12, “Low Temperature Overpressure Protection (LTOP) System,” to increase the time allowed for swapping charging pumps to one hour. The portion related to TSTF-285-A, Revision 1, “Charging Pump Swap LTOP Allowance,” is being withdrawn. The licensee's application was noticed previously in the Federal Register on April 25, 2017 (82 FR 19099). The licensee provided a request to withdraw the application by letter dated on June 29, 2017 (ADAMS Accession No. ML17180A154).

Dated at Rockville, Maryland, this 19th day of July 2017.
For the Nuclear Regulatory Commission.
Michael Mahoney,
Project Manager, Plant Licensing Branch II-1, Division of Operating Reactor Licensing, Office of Nuclear Reactor Regulation.

[FR Doc. 2017-15758 Filed 7-26-17; 8:45 am]

BILLING CODE 7590-01-P